CORPORATION FOR NATIONAL AND COMMUNITY SERVICE

Information Collection; Submission for OMB Review; Comment Request

AGENCY: Corporation for National and Community Service.

ACTION: Notice.

SUMMARY: The Corporation for National and Community Service (hereinafter the “Corporation”), has submitted a public information collection request (ICR) entitled CNCS Disaster Response Information Collection to the Office of Management and Budget (OMB) for review and approval in accordance with the Paperwork Reduction Act of 1995, Public Law 104-13, (44 U.S.C. Chapter 35). Copies of this ICR, with applicable supporting documentation, may be obtained by calling the Corporation for National and Community Service, Mr. Hank Oltmann, (202) 606-6844 or by e-mail: holtmann@cns.gov; or Mr. Nathan Dietz, (202) 606-6663 or by e-mail: Ndietz@cns.gov. Individuals who use a telecommunications device for the deaf (TTY-TDD) may call (202) 606-3472 between 8:30 a.m. and 5 p.m. Eastern time, Monday through Friday.

ADDRESSES: Comments may be submitted, identified by the title of the information collection activity, to Office of Information and Regulatory Affairs, Attn: Ms. Rachel Potter, OMB Desk Officer for the Corporation for National and Community Service, by any of the following two methods within 30 days from the date of publication in this Federal Register: (a) By fax to: (202) 395-6974, Attention: Ms. Rachel Potter, OMB Desk Officer for the Corporation for National and Community Service; and (b) Electronically by e-mail to: Rachel_F._Potter@omb.eop.gov.

SUPPLEMENTARY INFORMATION: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Comments

A 60-day public comment Notice, regarding the CNCS Disaster Response Information Collection, was published in the Federal Register on January 23, 2006. This comment period ended on March 24, 2006. No public comments were received from this notice.

Description

The Corporation for National and Community Service (CNCS) is requesting comments on plans to continue a data collection system to organize and manage information related to national service programs, participants, alums and unaffiliated volunteers interested in responding to disasters. The information collection tool is a brief web-based survey that includes a set of questions to be answered by representatives of current Corporation programs, grantees, or sponsors that are carrying out disaster relief and recovery efforts. Corporation staff will collect and analyze the responses. The information will be used by the Corporation in preparing its Annual Performance Reports as well as for responding to ad hoc requests from Congress, the public, media, and other interested parties.

Note: This data collection is designed so that it can be used for declared disasters in the future, as well as for the current Katrina/Rita Hurricane relief and recovery efforts.

Type of Review: Renewal with revisions of an information collection currently approved through emergency clearance.

Agency: Corporation for National and Community Service.

Title: Disaster Response Information Collection.

OMB Number: 3045-0114.

Agency Number: None.

Affected Public: Corporation for National and Community Service Programs/Grantees engaged in disaster activities.

Total Respondents: 350.

Frequency: No greater than once per month.

Average Time Per Response: 30 minutes.

Estimated Total Burden Hours: 400.

Total Burden Cost (capital/startup): None.

Total Burden Cost (operating/maintenance): None.

Dated: April 12, 2006.
Mark Abbott,
Senior Advisor, Office of the Chief Operating Officer.

[FR Doc. E6-5714 Filed 4-17-06; 8:45 am]

BILLING CODE 6050-$$-P